ENVIRONMENTAL PROTECTION AGENCY

[EPA-HQ-OPP-2009-0191; FRL-8422-6]

Organic Arsenicals; Notice of Receipt of Requests to Voluntarily Cancel or to Amend to Terminate Uses of Certain Pesticide Registrations

AGENCY: Environmental Protection Agency (EPA).

ACTION: Notice.

SUMMARY: In accordance with section 6(f)(1) of the Federal Insecticide, Fungicide, and Rodenticide Act (FIFRA), as amended, EPA is issuing a notice of receipt of requests by the registrants to voluntarily cancel and/or amend their registrations to terminate uses of certain products containing the pesticide organic arsenicals. The organic arsenicals include the pesticides monosodium methanearsonate (MSMA), disodium methanearsonate (DSMA), calcium acid methanearsonate (CAMA), and cacodylic acid and its sodium salt. The requests would terminate the following uses of MSMA: Residential; forestry; non-bearing fruit and nuts; citrus, bearing and non-bearing; bluegrass, fescue and ryegrass grown for seed; drainage ditch banks; railroad, pipeline, and utility rights of way; fence rows; storage yards; and similar non-crop areas. In addition, the requests terminate all uses of MSMA in Florida except for use on cotton grown in Calhoun, Columbia, Escambia, Gadsden, Hamilton, Holmes, Jackson, Jefferson, Okaloosa, Santa Rosa, Suwannee, Walton, and Washington counties. The requests would not terminate the last MSMA products registered for use in the United States. These requests for voluntary cancellation and amendment of MSMA containing products are the result of an agreement in principle signed by the EPA and the technical registrants of the organic arsenicals on January 16 and February 5, 2009. As part of the agreement, the registrants have requested voluntary cancellation of all products containing DSMA, CAMA, and cacodylic acid and its sodium salt. The requests would terminate the last DSMA, CAMA, and cacodylic acid and its sodium salt products registered for use in the United States. EPA intends to grant these requests at the close of the comment period for this announcement unless the Agency receives substantive comments within the comment period that would merit its further review of the requests, or unless the registrants withdraw their requests within this period. Upon acceptance of these requests, any sale, distribution, or use of products listed in this notice will be permitted only if such sale, distribution, or use is consistent with the terms as described in the final order.

DATES: Comments must be received on or before August 7, 2009.

ADDRESSES: Submit your comments, identified by docket identification (ID) number EPA-HQ-OPP-2009-0191, by one of the following methods:

• Federal eRulemaking Portal: http://www.regulations.gov. Follow the on-line instructions for submitting comments.

• Mail: Office of Pesticide Programs (OPP) Regulatory Public Docket (7502P), Environmental Protection Agency, 1200 Pennsylvania Ave., NW., Washington, DC 20460-0001.

• Delivery: OPP Regulatory Public Docket (7502P), Environmental Protection Agency, Rm. S-4400, One Potomac Yard (South Bldg.), 2777 S. Crystal Dr., Arlington, VA. Deliveries are only accepted during the Docket Facility's normal hours of operation (8:30 a.m. to 4 p.m., Monday through Friday, excluding legal holidays). Special arrangements should be made for deliveries of boxed information. The Docket Facility telephone number is (703) 305-5805.

Instructions: Direct your comments to docket ID number EPA-HQ-OPP-2009-0191. EPA's policy is that all comments received will be included in the docket without change and may be made available on-line at http://www.regulations.gov, including any personal information provided, unless the comment includes information claimed to be Confidential Business Information (CBI) or other information whose disclosure is restricted by statute. Do not submit information that you consider to be CBI or otherwise protected through regulations.gov or e-mail. The regulations.gov website is an “anonymous access” system, which means EPA will not know your identity or contact information unless you provide it in the body of your comment. If you send an e-mail comment directly to EPA without going through regulations.gov, your e-mail address will be automatically captured and included as part of the comment that is placed in the docket and made available on the Internet. If you submit an electronic comment, EPA recommends that you include your name and other contact information in the body of your comment and with any disk or CD-ROM you submit. If EPA cannot read your comment due to technical difficulties and cannot contact you for clarification, EPA may not be able to consider your comment. Electronic files should avoid the use of special characters, any form of encryption, and be free of any defects or viruses.

Docket: All documents in the docket are listed in the docket index available at http://www.regulations.gov. Although listed in the index, some information is not publicly available, e.g., CBI or other information whose disclosure is restricted by statute. Certain other material, such as copyrighted material, is not placed on the Internet and will be publicly available only in hard copy form. Publicly available docket materials are available either in the electronic docket at http://www.regulations.gov, or, if only available in hard copy, at the OPP Regulatory Public Docket in Rm. S-4400, One Potomac Yard (South Bldg.), 2777 S. Crystal Dr., Arlington, VA. The hours of operation of this Docket Facility are from 8:30 a.m. to 4 p.m., Monday through Friday, excluding legal holidays. The Docket Facility telephone number is (703) 305-5805.

FOR FURTHER INFORMATION CONTACT: Tom Myers, Special Review and Reregistration Division (7508P), Office of Pesticide Programs, Environmental Protection Agency, 1200 Pennsylvania Ave., NW., Washington, DC 20460-0001; telephone number: (703) 308-8589; fax number: (703) 308-8005; e-mail address: myers.tom@epa.gov.

SUPPLEMENTARY INFORMATION:

I. General Information

A. Does this Action Apply to Me?

This action is directed to the public in general, and may be of interest to a wide range of stakeholders including environmental, human health, and agricultural advocates; the chemical industry; pesticide users; and members of the public interested in the sale, distribution, or use of pesticides. Since others also may be interested, the Agency has not attempted to describe all the specific entities that may be affected by this action. If you have any questions regarding the applicability of this action to a particular entity, consult the person listed under FOR FURTHER INFORMATION CONTACT.

B. What Should I Consider as I Prepare My Comments for EPA?

1. Submitting CBI. Do not submit this information to EPA through regulations.gov or e-mail. Clearly mark the part or all of the information that you claim to be CBI. For CBI information in a disk or CD-ROM that you mail to EPA, mark the outside of the disk or CD-ROM as CBI and then identify electronically within the disk or CD-ROM the specific information that is claimed as CBI. In addition to one complete version of the comment that includes information claimed as CBI, a copy of the comment that does not contain the information claimed as CBI must be submitted for inclusion in the public docket. Information so marked will not be disclosed except in accordance with procedures set forth in 40 CFR part 2.

2. Tips for preparing your comments. When submitting comments, remember to:

i. Identify the document by docket ID number and other identifying information (subject heading, Federal Register date and page number).

ii. Follow directions. The Agency may ask you to respond to specific questions or organize comments by referencing a Code of Federal Regulations (CFR) part or section number.

iii. Explain why you agree or disagree; suggest alternatives and substitute language for your requested changes.

iv. Describe any assumptions and provide any technical information and/or data that you used.

v. If you estimate potential costs or burdens, explain how you arrived at your estimate in sufficient detail to allow for it to be reproduced.

vi. Provide specific examples to illustrate your concerns and suggest alternatives.

vii. Explain your views as clearly as possible, avoiding the use of profanity or personal threats.

viii. Make sure to submit your comments by the comment period deadline identified.

II. Background on the Receipt of Requests to Cancel and/or Amend Registrations to Delete Uses

This notice announces receipt by EPA of requests from registrants to cancel or amend organic arsenical product registrations. The organic arsenicals are herbicides registered for application to cotton, bearing and non-bearing fruit and nut trees, commercial turf, golf courses, athletic fields, parks and residential lawns among other sites. In letters received by the Agency, the registrants have requested EPA to cancel affected product registrations and/or to amend to terminate uses of pesticide product registrations identified in this notice in Tables 1 and 2. Specifically, the registrants have requested voluntary cancellation of all products containing DSMA, CAMA, cacodylic acid and its sodium salt. In addition, the registrants have requested that certain uses of MSMA be terminated in accordance with the agreement in principle. The requests would terminate the following uses of MSMA: Residential; forestry; non-bearing fruit and nuts; citrus, bearing and non-bearing; bluegrass, fescue and ryegrass grown for seed; drainage ditch banks; railroad, pipeline, and utility rights of way; fence rows; storage yards; and similar non-crop areas. In addition, the requests terminate all uses of MSMA in Florida except for use on cotton grown in Calhoun, Columbia, Escambia, Gadsden, Hamilton, Holmes, Jackson, Jefferson, Okaloosa, Santa Rosa, Suwannee, Walton, and Washington counties. The requests would not terminate the last MSMA products registered for use in the United States. The requests would terminate the last DSMA, CAMA, and cacodylic acid and its sodium salt products registered for use in the United States.

III. What Action is the Agency Taking?

This notice announces receipt by the Agency of requests from registrants to cancel or amend to terminate uses of organic arsenicals product registrations. The affected products and the registrants making the requests are identified in Tables 1-3 of this unit.

Under section 6(f)(1)(A) of FIFRA, registrants may request, at any time, that their pesticide registrations be canceled or amended to terminate one or more pesticide uses. Section 6(f)(1)(B) of FIFRA requires that before acting on a request for voluntary cancellation, EPA must provide a 30-day public comment period on the request for voluntary cancellation or use termination. In addition, section 6(f)(1)(C) of FIFRA requires that EPA provide a 180-day comment period on a request for voluntary cancellation or termination of any minor agricultural use before granting the request, unless:

1. The registrants request a waiver of the comment period, or

2. The Administrator determines that continued use of the pesticide would pose an unreasonable adverse effect on the environment.

The organic arsenical registrants have requested that EPA waive the 180-day comment period. EPA will provide a 30-day comment period on the proposed requests.

Unless a request is withdrawn by the registrant within 30 days of publication of this notice, or if the Agency determines that there are substantive comments that warrant further review of this request, an order will be issued canceling or amending the affected registrations.

Table 1.—Organic Arsenical Product Registrations with Pending Requests for Cancellation
Registration Number | Product Name | Chemical Name
239-2510 | Ortho Crabgrass Killer Formula II | CAMA
239-2572 | Ortho Crabgrass Killer Spray | CAMA
538-10 | Scotts Summer Crabgrass Control | DSMA
538-169 | Scotts Spot Grass and Weed Control | Cacodylic acid
|  | Cacodylic acid, sodium salt
538-178 | Scotts Post Emergent Crabgrass Control | MSMA
769-635 | SMCP MSMA 70W Liquid MSMA Plus Surfactant | MSMA
769-636 | SMCP MSMA 70 Liquid | MSMA
769-637 | SMCP MSMA 6.66 | MSMA
769-664 | X-CEL Veg Kil | Cacodylic acid
|  | Cacodylic acid, sodium salt
769-705 | SMCP MSMA HC 8 Liquid High Concentrate | MSMA
769-916 | Science Grass and Weed Top-Killer | Cacodylic acid
|  | Cacodylic acid, sodium salt
769-975 | Liquid Edger Herbicide | Cacodylic acid
|  | Cacodylic acid, sodium salt
869-175 | Green Light Liquid Edger | Cacodylic acid
|  | Cacodylic acid, sodium salt
869-243 | Green Light MSMA Crabgrass Killer 2 | MSMA
2217-229 | Selective Crabgrass Killer Contains DSMA | DSMA
2217-434 | Crabgrass Killer | DSMA
2217-512 | Nutgrass Killer | MSMA
2217-513 | Crabgrass Killer | MSMA
2217-630 | Gordon's Crabgrass and Nutgrass Killer | MSMA
2217-808 | EH 795 Residential Herbicide | MSMA
|  | 2,4-D dimethylamine salt
|  | Benzoic acid, 3,6-dichloro-2-methoxy-, compd with N-methylmetharamine (1:1)
|  | Propanoic acid 2-(4-chloro-2-methylphenoxy)-, (R) compd with N-methylmetharamine (1:1)
2217-815 | EH 1335 Herbicide | MSMA
|  | 2,4-D dimethylamine salt
|  | Benzoic acid, 3,6-dichloro-2-methoxy-, compd with N-methylmetharamine (1:1)
|  | Propanoic acid 2-(4-chloro-2-methylphenoxy)-, (R) compd with N-methylmetharamine (1:1)
2217-830 | EH 1378 Herbicide | MSMA
|  | 2,4-D dimethylamine salt
|  | Benzoic acid, 3,6-dichloro-2-methoxy-, compd with N-methylmetharamine (1:1)
|  | Propanoic acid 2-(4-chloro-2-methylphenoxy)-, (R) compd with N-methylmetharamine (1:1)
5481-67 | Alco Ho No Mo Liquid | Cacodylic acid
|  | Cacodylic acid, sodium salt
5481-227 | DSMA Liquid Plus Surfactant | DSMA
5481-228 | MSMA 40 Plus Surfactant | MSMA
5481-229 | MSMA 60 Plus Surfactant | MSMA
5481-230 | MSMA 66 Concentrate | MSMA
5481-231 | MSMA 80 Concentrate | MSMA
5887-172 | Improved Crabgrass Killer | MSMA
5905-67 | MSMA Arsonate Liquid | MSMA
5905 GA-82-0011 | MSMA Arsonate Liquid | MSMA
7401-23 | Ferti-Lome Crabgrass and Dallis Grass Killer | MSMA
7401-246 | Hi-Yield Super Decimate+Surfactant | MSMA
7401-366 | Ferti-Lome Improved Bermuda Grass Killer | MSMA
|  | Cacodylic acid, sodium salt
8660-48 | Crabgrass Killer | DSMA
8660-63 | Clean-Up Herbicide | Cacodylic acid
|  | Cacodylic acid, sodium salt
8660-120 | Vertagreen Crabgrass &Weed Killer | MSM
8660-121 | Greenup Nutgrass &Chickweed Killer | MSMA
9779-86 | Riverside 612 Herbicide | MSMA
9779-96 | Riverside 120 Herbicide | MSMA
9779-128 | DSMA Herbicide | DSMA
9779-155 | Riverside 145 Herbicide | MSMA
9779-170 | Riverside MSMA 4 | MSMA
9779-174 | Riverside DSMA Liquid Plus Surfactant | DSMA
9779-317 | Prometryne+MSMA | MSMA
|  | Prometryn
10088-74 | Lawn and Turf Weed Control | MSMA
19713-45 | Drexel DSMA Liquid | DSMA
19713-113 | Drexel DSMA 81P | DSMA
19713-117 | Drexel Kack Herbicide | Cacodylic acid
|  | Cacodylic acid, sodium salt
19713-141 | Drexel Ezy-Pickin Cotton Defoliant | Cacodylic acid
|  | Cacodylic acid, sodium salt
19713-153 | Kack Plus MSMA Herbicide | MSMA
|  | Cacodylic acid
|  | Cacodylic acid, sodium salt
19713-162 | MSMA 6 Tree Killer | MSMA
19713-276 | IDA, INC. DSMA Slurry | DSMA
19713-311 | Pearson's Easy-Edger and Cleaner | Cacodylic acid
|  | Cacodylic acid, sodium salt
19713-530 | Drexel DSMA 81 Dry Powder | DSMA
19713-532 | DSMA Slurry | DSMA
19713-533 | Super Dal-E-Rad Calar | CAMA
19713-534 | APC Holdings DSMA Liquid | DSMA
19713-535 | APC Holdings DSMA Liquid 4 | DSMA
28293-234 | Unicorn Liquid Edger | Cacodylic acid
|  | Cacodylic acid, sodium salt
28293-361 | Unicorn Weed Edger | Cacodylic acid
|  | Cacodylic acid, sodium salt
33955-510 | Acme Weed Killer Nonselective Herbicide for General Weed Control | Cacodylic acid
|  | Cacodylic acid, sodium salt
33955-553 | Acme Ready-To Use Weed & Grass Killer | Cacodylic acid
|  | Cacodylic acid, sodium salt
42519-4 | Cacodylate 3.25 | Cacodylic acid
|  | Cacodylic acid, sodium salt
42519-8 | Sodium Cacodylate Solution | Cacodylic acid
|  | Cacodylic acid, sodium salt
42519-10 | Leaf-All | Cacodylic acid
|  | Cacodylic acid, sodium salt
46515-1 | Liquid Fence & Grass Edger | Cacodylic acid
|  | Cacodylic acid, sodium salt
46515-12 | Super K-Gro Ready-to-Use Crabgrass Killer | CAMA
59144-20 | Liquid Edger Ready-to-Use | Cacodylic acid
|  | Cacodylic acid, sodium salt
61483-19 | DSMA Liquid | DSMA
61483-20 | Super Arsonate | MSMA
61483-25 | Ansar 529 HC Herbicide | MSMA
61483-40 | DSMA 4 | DSMA
72155-1 | Herbicide 3D RTU | MSMA
|  | 2,4-D dimethylamine salt
|  | Benzoic acid, 3,6-dichloro-2-methoxy-, compd with N-methylmetharamine (1:1)
|  | Propanoic acid 2-(4-chloro-2-methylphenoxy)-, (R) compd with N-methylmetharamine (1:1)
72155-3 | Lawn Herbicide TN Concentrate | MSMA
|  | 2,4-D dimethylamine salt
|  | Benzoic acid, 3,6-dichloro-2-methoxy-, compd with N-methylmetharamine (1:1)
|  | Propanoic acid 2-(4-chloro-2-methylphenoxy)-, (R) compd with N-methylmetharamine (1:1)
72155-5 | Lawn Herbicide 3D Concentrate | MSMA
|  | 2,4-D dimethylamine salt
|  | Benzoic acid, 3,6-dichloro-2-methoxy-, compd with N-methylmetharamine (1:1)]
|  | Propanoic acid 2-(4-chloro-2-methylphenoxy)-, (R) compd with N-methylmetharamine (1:1)
72155-6 | Lawn Herbicide 3D-40 Concentrate | MSMA
|  | 2,4-D dimethylamine salt
|  | Benzoic acid, 3,6-dichloro-2-methoxy-, compd with N-methylmetharamine (1:1)]
|  | Propanoic acid 2-(4-chloro-2-methylphenoxy)-, (R) compd with N-methylmetharamine (1:1)

Table 2.—Organic Arsenical Product Registrations with Pending Requests for Amendment
Registration Number | Product Name | Chemical name
2217-709 | Quadmec Turf Herbicide | MSMA
|  | 2,4-D dimethylamine salt
|  | Benzoic acid, 3,6-dichloro-2-methoxy-, compd with N-methylmetharamine (1:1)
|  | Propanoic acid 2-(4-chloro-2-ethylphenoxy)-, (R) compd with N-methylmetharamine (1:1)
2217-797 | EH 1143 Herbicide | MSMA
|  | MCPA, dimethylamine salt
|  | Benzoic acid, 3,6-dichloro-2-methoxy-, compd with N-methylmetharamine (1:1)
|  | Propanoic acid 2-(4-chloro-2-ethylphenoxy)-, (R) compd with N-methylmetharamine (1:1)
5905-66 | MSMA Plus | MSMA
5905-162 | Helena Brand MSMA High Concentrate | MSMA
5905-164 | MSMA Plus HC | MSMA
9779-133 | Riverside 912 Herbicide | MSMA
19713-40 | Drexar 530 | MSMA
19713-41 | Drexel MSMA 6.6 | MSMA
19713-42 | MSMA 6 Plus | MSMA
19713-151 | Drexel MSMA 8 | MSMA
19713-267 | IDA, Inc. MSMA 4 Plus | MSMA
19713-269 | IDA, Inc. MSMA 6.6 | MSMA
19713-278 | IDA, Inc. MSMA 6 Plus | MSMA
19713-528 | Diumate | MSMA
|  | Diuron
19713-529 | Drexel MSMA 600 Herbicide | MSMA
19713-531 | Drexel MSMA 660 | MSMA
19713-550 | Drexel MSMA 120 | MSMA
42519-1 | Target 6.6 | MSMA
42519-3 | Target 6 Plus | MSMA
42750-28 | Weed Hoe 120 | MSMA
42750-29 | Weed Hoe 108 | MSMA
61483-13 | Daconate | MSMA
61483-14 | Daconate 6 | MSMA
61483-15 | Bueno-6 | MSMA
61483-17 | Daconate Super Brand | MSMA
61483-18 | Bueno | MSMA
62719-339 | MSMA 6.6 | MSMA
62719-340 | MSMA Plus S | MSMA
62719-343 | MSMA 51% | MSMA

Table 3 of this unit includes the names and addresses of record for the registrants of the products listed in Table 1 and Table 2 of this unit.

Table 3.—Registrants Requesting Voluntary Cancellation and/or Amendments
EPA Company No. | Company Name and Address
239 | The Scotts Co., d/b/a/ The Ortho Group, PO Box 190, Marysville, OH 43040
538 | The Scotts Co., 14111 Scottslawn Rd, Marysville, OH 43041
769 | Value Gardens Supply, LLC d/b/a/ Value Garden Supply, PO Box 585, Saint Joseph, MO 64502
869 | Valent GI Corp., c/o Valent USA Corp., Agent For: Green Light Co., 1600 Riviera Ave. Suite 200, Walnut Creek, CA 94596
2217 | PBI/Gordon Corp., PO Box 014090, Kansas City, MO 64101-0090
5481 | Amvac Chemical Corp., d/b/a/ Amvac, 4695 Macarthur Ct., Suite 1250, Newport Beach, CA 92660-1706
5887 | Value Gardens Supply, LLC d/b/a/ Value Garden Supply, PO Box 585, Saint Joseph, MO 64502]
5905 | Helena Chenical Co., 7664 Moore Rd., Memphis, TN 38120
7401 | Mandava Associates, LLC, Agent for: Voluntary Purchasing Groups, Inc., N. Dallas Pkwy., Suite 200, Plano, TX 75024
8660 | United Industries Corp., d/b/a Sylorr Plant Corp., PO Box 142642, St. Louis, MO 63114-0642
9779 | Winfield Solutions, LLC, PO Box 64589, St. Paul, MN 55164-0589
10088 | Athea Laboratories Inc., PO Box 240014, Milwaukee, WI 53224
19713 | Drexel Chemical Co., PO Box 13327, Memphis, TN 38113-0327
28293 | Phaeton Corp., d/b/a/ Unicorn Laboratories, PO Box 290, Madison, GA 30650
33955 | PBI/Gordon Corp., PO Box 014090, Kansas City, MO 64101-0090
42519 | Luxemborg-Pamol, Inc., 5100 Poplar Ave. Suite 2700, Memphis, TN 38137
42750 | Albaugh Inc., 1525 NE 36th Street, Ankeny, IA 50021
46515 | Celex, Division of United Industries Corp., PO Box 142642, St. Louis, MO 63114-0642
59144 | RegWest Company, LLC, Agent for: Gro Tec, Inc., 30856 Rocky Rd. Greely, CO 80631-9375
61483 | KMG-Bernuth, Inc., 9555 W. Sam Houston Pkwy South, Suite 600, Houston, TX 77099
62719 | Dow Agrosciences LLC, 9330 Zionsville Rd 308/2e, Indianapolis, IN 46268-1054
72155 | Bayer Advanced, PO Box 12014, 2 TW Alexander Dr., Research Triangle Park, NC 27709

IV. What is the Agency's Authority for Taking this Action?

Section 6(f)(1) of FIFRA provides that a registrant of a pesticide product may at any time request that any of its pesticide registrations be canceled or amended to terminate one or more uses. FIFRA further provides that, before acting on the request, EPA must publish a notice of receipt of any such request in the Federal Register. Thereafter, following the public comment period, the Administrator may approve such a request.

V. Procedures for Withdrawal of Request and Considerations for Reregistration of Organic Arsenicals

Registrants who choose to withdraw a request for cancellation must submit such withdrawal in writing to the person listed under FOR FURTHER INFORMATION CONTACT, postmarked before August 7, 2009. This written withdrawal of the request for cancellation will apply only to the applicable FIFRA section 6(f)(1) request listed in this notice. If the products(s) have been subject to a previous cancellation action, the effective date of cancellation and all other provisions of any earlier cancellation action are controlling.

VI. Provisions for Disposition of Existing Stocks

Existing stocks are those stocks of registered pesticide products which are currently in the United States and which were packaged, labeled, and released for shipment prior to the effective date of the cancellation action. In any order issued in response to these requests for cancellation of product registrations, EPA proposes to include the following provisions for the treatment of any existing stocks of the products identified or referenced in Table 1 in Unit III.

In any order issued in response to these requests for amendments to terminate uses, the Agency proposes to include the following provisions for the treatment of any existing stocks of the products identified or referenced in Table 2 in Unit III.

The registrants have requested voluntary cancellation of the arsenic registrations identified in Table 1 and voluntary amendment to terminate certain uses of the arsenic registrations identified in Table 2. Pursuant to section 6(f) of FIFRA, EPA intends to grant the requests for voluntary cancellation and amendment.

As outlined in the organic arsenicals Agreement in Principle the following existing stocks dates are being proposed. EPA encourages stakeholders to submit comments on these existing stocks timeframes. Comments will be evaluated and the final existing stocks timeframes will be incorporated into the cancellation order which will be published in the Federal Register.

After December 31, 2009, registrants would be prohibited from selling or distributing existing stocks of products containing MSMA labeled for all uses, except cotton, sod farms, golf courses, and highway rights-of-way. Also, after December 31, 2009, registrants would be prohibited from selling or distributing existing stocks of products containing DSMA, CAMA, cacodylic acid and its sodium salt.

After June 30, 2010, persons other than registrants would be prohibited from selling or distributing existing stocks of products containing MSMA labeled for all uses, except cotton, sod farms, golf courses, and highway rights-of-way, and products containing DSMA, CAMA, and/or cacodylic acid and its sodium salt.

After December 31, 2010, use of products containing MSMA labeled for all uses, except cotton, sod farms, golf courses, and highway rights-of-way and products containing DSMA, CAMA, cacodylic acid and its sodium salt would be prohibited.

After December 31, 2012, registrants would be prohibited from selling or distributing existing stocks of products containing MSMA labeled for use on sod farms, golf courses, and highway rights-of-way.

After June 30, 2013, persons other than registrants would be prohibited from selling or distributing existing stocks of products containing MSMA labeled for use on sod farms, golf courses, and highway rights-of-way.

After December 31, 2013, use of products containing MSMA labeled for all uses, except cotton, would be prohibited.

If the request for voluntary cancellation and use termination is granted, the Agency intends to publish the cancellation order in the Federal Register.

List of Subjects

Environmental protection, Pesticides and pests.

Dated: June 30, 2009.
Peter Caulkins,
Acting Director, Special Review and Reregistration Division, Office of Pesticide Programs.

[FR Doc. E9-16054 Filed 7-7-09; 8:45 am]

BILLING CODE 6560-50-S